DEPARTMENT OF COMMERCE

National Oceanic and Atmospheric Administration

Proposed Information Collection; Comment Request; Southwest Region Seabird-Fisheries Interaction Recovery Reporting

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 16, 2005.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Alvin Katekaru, 808-973-2935 ext. 207 or Alvin.Katekaru@noaa.gov.

SUPPLEMENTARY INFORMATION:

I. Abstract

In implementing mitigation measures to reduce interactions between seabirds and the Hawaii-based pelagic longline fishery, the National Marine Fisheries Service (NMFS) is also requiring longline vessel operators to notify NMFS in the event an endangered short-tailed albatross is hooked or entangled during fishing operations. Following the retrieval of the seabird from the ocean, as required by Federal regulations, the vessel captain must record the conditions of the injured short-tailed albatross on a recovery data form. The information will be used by a veterinarian in providing advice to the captain caring for the short-tailed albatross. If the albatross is dead, the vessel captain must attach an identification/information tag to the carcass, as well as the specimen bag, to assist the U.S. Fish and Wildlife Service (FWS) biologists in follow-up studies on the specimen. This collection is one of the terms and conditions contained in a biological opinion issued by FWS and is intended to maximize the probability of the long-term survival of short-tailed albatross incidentally taken by longline gear.

II. Method of Collection

Paper data forms, sea to shore contact via vessel monitoring system unit (VMS), telephone or single side-band radio are required from participants, and methods of submittal include mail and facsimile transmission of paper forms.

III. Data

OMB Number: 0648-0456.

Form Number: None.

Type of Review: Regular submission.

Affected Public: Not-for-profit institutions; and business or other for-profit organizations.

Estimated Number of Respondents: 2.

Estimated Time Per Response: 1 hour for notification; 1 hour for the report; and 30 minutes to attach specimen identification tags.

Estimated Total Annual Burden Hours: 5.

Estimated Total Annual Cost to Public: $100.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 10, 2005.
Gwellnar Banks,
Management Analyst, Office of the Chief Information Officer.

[FR Doc. 05-5241 Filed 3-16-05; 8:45 am]

BILLING CODE 3510-22-P